DEPARTMENT OF COMMERCE

National Telecommunications and Information Administration

Agency Information Collection Activities; Submission for OMB Review; Infrastructure Investment and Jobs Act—Application for Broadband Grant Programs; Comment Request

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on August 26, 2022, during a 60-day comment period. This notice allows for an additional 30 days for public comments.

Agency: National Telecommunications and Information Administration (NTIA), Commerce.

Title: Infrastructure Investment and Jobs Act—Application for Broadband Grant Programs.

OMB Control Number: 0660-0046.

Form Number(s): N/A.

Type of Request: Extension and revision of a current information collection.

Number of Respondents: 550 for SDEPG application, 700 for MMG application, 400 for TBCP application.

Average Hours per Response: 8.1 hours for SDEPG application, 14 for MMG application, 1 hour for TBCP application.

Burden Hours: 14,655.

Needs and Uses: With this information collection, NTIA will review the proposed applications and budgets of applicants to evaluate alignment to SDEPG, MMG, and TBCP requirements and program priorities. Applicants will have more structured questions and guidance for their applications. The forms will ultimately reduce the applicant burden by making the application process clearer and simpler. Additionally, the structured forms will reduce application errors and the number of application updates needed after the applications have been submitted.

Affected Public (SDEPG): Territories or possessions of the United States, Indian Tribes, Alaska Native entities, and Native Hawaiian organizations applying for Infrastructure Act Broadband Grant Program funding.

Affected Public (MMG): States, political subdivisions of a State, Tribal governments technology companies, electric utilities, utility cooperatives, public utility districts, telecommunications companies, telecommunications cooperatives, nonprofit foundations, nonprofit corporations, nonprofit institutions, nonprofit associations, regional planning councils, Native entities, economic development authorities, or any partnership of two (2) or more of these entities.

Affected Public (TBCP): Tribal Governments, Tribal Colleges or Universities, the Department of Hawaiian Home Lands on behalf of the Native Hawaiian Community, including Native Hawaiian Education Programs, Tribal organizations, or Alaska Native Corporations.

Frequency: One-time submission prior to application deadline.

Respondent's Obligation: Mandatory.

Legal Authority: Infrastructure Investment and Jobs Act of 2021 (IIJA), Public Law 117-58, 135 Stat. 429 (November 15, 2021); Consolidated Appropriations Act, 2021, Division N, Title IX, Section 905(c), Public Law 116-260, 134 Stat. 1182 (Dec. 27, 2020) (Act), as amended by the IIJA.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection or the OMB Control Number 0660-0046.

Sheleen Dumas,
Department PRA Clearance Officer, Office of the Chief Information Officer, Department of Commerce.

[FR Doc. 2022-24826 Filed 11-14-22; 8:45 am]

BILLING CODE 3510-60-P